DEPARTMENT OF THE TREASURY

Departmental Offices/Federal Consulting Group; Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Federal Consulting Group within the Department of the Treasury is soliciting comments concerning the American Customer Satisfaction Index (ACSI) Customer Satisfaction Survey.

DATES: Written comments should be received on or before April 4, 2006 to be assured of consideration.

ADDRESSES: Direct all written comments to the Federal Consulting Group, Attention: Ronald Oberbillig, 799 9th Street, NW., Washington, DC 20239, (202) 504-3656, Ron.Oberbillig@bpd.treas.gov.

FOR FURTHER INFORMATION CONTACT: Requests for additional information or copies of the form(s) and instructions should be directed to the Federal Consulting Group, Attention: Ronald Oberbillig, 799 9th Street, NW., Washington, DC 20239, (202) 504-3656, Ron.Oberbillig@bpd.treas.gov.

SUPPLEMENTARY INFORMATION: Title: American Customer Satisfaction Index (ACSI) Survey.

OMB Number: 1505-0191.

Abstract: The following summary of the proposed renewal of an information collection activity is designed to continue to support a means to consistently measure and compare customer satisfaction with federal government agency programs and/or services within the Executive Branch. The Federal Consulting Group of the Department of the Treasury serves as the executive agent for this project, and has partnered with the CFI Group and the University of Michigan to offer the ACSI to federal government agencies (“the partnership”).

The General Services Administration selected the ACSI in 1999 through a competitive procurement process as the vehicle for obtaining the required information. From 1999 to 2001, the General Services Administration served as the executive agent for the ACSI; and in 2001, the General Services Administration transferred the OMB clearance to the Department of the Treasury. The Federal Consulting Group requested and received a three-year generic clearance from the Office of Management and Budget for the ACSI in May 2003.

The CFI Group, a leader in customer satisfaction and customer experience management, offers a comprehensive system that quantifies the effects of quality improvements on citizen satisfaction. The CFI Group has developed the methodology and licenses it to the National Quality Research Center at the University of Michigan which produces the American Customer Satisfaction Index (ACSI). This national economic indicator, published quarterly in the Wall Street Journal, was introduced in 1994 by Professor Claes Fornell under the auspices of the University of Michigan, the American Society for Quality (ASQ), and the CFI Group. The ACSI monitors and benchmarks customer satisfaction across more than 200 companies and many U.S. federal agencies.

The ACSI is the only cross-agency methodology for obtaining comparable measures of customer satisfaction with federal government programs and/or services. Along with other economic objectives—such as employment and growth—the quality of output (goods and services) is a part of measuring living standards. The ACSI's ultimate purpose is to help improve the quality of goods and services available to American citizens.

The surveys that comprise the federal government's portion of the ACSI will be completely subject to the Privacy Act 1074, Public Law 93-579, December 31, 1974 (5 U.S.C. 522a). The agency information collection will be used solely for the purpose of the survey. The ACSI partnership will not be authorized to release any agency information upon completion of the survey without first obtaining permission from the Federal Consulting Group and the participating agency. In no case shall any new system of records containing privacy information be developed by the Federal Consulting Group, participating agencies, or the contractor collecting the data. In addition, participating federal agencies may only provide information used to randomly select respondents from among established systems of records provided for such routine uses.

This survey asks no questions of a sensitive nature, such as sexual behavior and attitudes, religious beliefs, and other matters that are commonly considered private.

Current Actions: Proposed renewal of collection of information.

Type of Review: Renewal.

Affected Public: Individuals or households/business or other for-profit/not-for-profit institutions/farms/federal government/state, local or tribal government.

Estimated Number of Respondents: Participation by federal agencies in the ACSI is expected to vary as new customer segment measures are added or deleted. However, based on historical records, projected estimates for fiscal years 2006 through 2008 are as follows:

Fiscal Year 2006—100 Customer Satisfaction Surveys

Respondents: 26,000; annual responses: 26,000; average minutes per response: 12.0; burden hours: 5,200.

Fiscal Year 2007—150 Customer Satisfaction Surveys

Respondents: 39,000; annual responses: 39,000; average minutes per response: 12.0; burden hours: 7,800.

Fiscal Year 2008—200 Customer Satisfaction Surveys

Respondents: 52,000; annual responses: 52,000; average minutes per response: 12.0; burden hours: 10,400.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: February 3, 2006.
Ronald Oberbillig,
Chief Operating Officer, Federal Consulting Group.

[FR Doc. E6-1729 Filed 2-8-06; 8:45 am]

BILLING CODE 4810-25-P